DEPARTMENT OF COMMERCE

Economic Development Administration

[Docket No. 991215339-3300-09]

University Center (UC) Program

AGENCY: Economic Development Administration (EDA) Department of Commerce (DOC).

ACTION: Notice and request for proposals.

SUMMARY: EDA is soliciting competition proposals for FY 2004 University Center funding in the areas served by its Denver and Austin regional offices. EDA's mission is to help our partners across the Nation create wealth and minimize poverty by promoting a favorable business involvement to attract private capital investment and higher-skill, higher-wage jobs through world-class capacity-building, planning, infrastructure, research grants and strategic initiatives. With funding from EDA, institutions of higher education establish and operate University Centers, which provide technical assistance to public and private sector organizations with the goal of enhancing local economic development. EDA has traditionally renewed an award to a University Center on an annual basis as long as it maintained a satisfactory level of performance and Congress appropriated funds for the program. With the competition announced in this notice for University Centers in the regions served by EDA's Austin and Denver regional offices, EDA is beginning to phase in competition for University Center funding.

DATES: Proposals must be received at the appropriate EDA regional office by 5 p.m. local time on Friday, May 14, 2004.

ADDRESSES: For proponents in Arkansas, Louisiana, New Mexico, Oklahoma, and Texas, please send proposals to: Economic Development Administration, Austin Regional Office, 327 Congress Avenue, Suite 200, Austin, Texas 78701, 512-381-8144.

For proponents in Colorado, Iowa, Kansas, Missouri, Montana, Nebraska, North Dakota, South Dakota, Utah, and Wyoming, please send proposals to: Economic Development Administration, Denver Regional Office, 1244 Speer Boulevard, Room 670, Denver, Colorado 80204, 303-844-4715.

Full text of the Federal Funding Opportunity announcement can be accessed at EDA's Web site, http://www.eda.gov.

FOR FURTHER INFORMATION CONTACT: For additional information or a copy of the Federal Funding Opportunity announcement for this request for proposals, contact the appropriate EDA regional office listed above in the ADDRESSES section.

SUPPLEMENTARY INFORMATION: Electronic Access: EDA is not currently able to accept electronic submission of proposal packages. However, the full funding opportunity announcement for the FY 2004 University Center competition is available through EDA's Web site, http://www.eda.gov, and through Grants.gov at http://www.grants.gov.

Funding Availability: The amount of University Center funding available through this announcement for competition in FY 2004 is $795,217 in the Denver regional office and $978,502 in the Austin regional office. Anticipated annual awards for University Centers under the FY 2004 competition are in the $75,000 to $200,000 range. Regional offices may, however, choose to fund proposals under this competition outside that range.

Statutory Authority: Pub. L. 89-136, as amended by Pub. L. 105-393, 42 U.S.C. 3121, et seq.

CFDA: 11.303, Economic Development—Technical Assistance.

Eligibility: Eligible applicants and eligible recipients of EDA financial assistance are defined at 13 CFR 300.2. For the University Center program, EDA considers all accredited institutions of higher education as eligible applicants.

For FY 2004 the University Center competition is open to eligible applicants in areas served by EDA's Denver regional office and Austin regional office. The Denver regional office serves the states of Colorado, Iowa, Kansas, Missouri, Montana, Nebraska, North Dakota, South Dakota, Utah and Wyoming. The Austin region serves the states of Arkansas, Louisiana, New Mexico, Oklahoma and Texas.

Cost Sharing Requirements: Any institution of higher education seeking EDA funding under this announcement must provide financial support for its proposed University Center. Ordinarily, the proposed budget for the University Center is shared on a 50/50 basis between EDA and the applicant. The proposed budget may be shared on a 75/25 basis between EDA and the applicant if the project is not feasible without, and merits, a reduction or waiver of the non-Federal share.

In addition, a project is eligible for a supplemental grant increasing the Federal share up to and including 75 percent when the applicant is able to demonstrate that:

(1) It cannot provide the higher match because there is a lack of available non-Federal resources due, for instance, to the pressing demand for its use elsewhere;

(2) the project is addressing major causes of distress in the area to be served and requires the unique characteristics of the applicant, which will not participate if it must provide all or part of a 50 percent non-Federal share; or

(3) The project is for the benefit of local, State, regional or national economic development efforts and will be of no or only incidental benefit to the recipient. See 13 CFR 307.7(c).

Funds from other Federal awards may not be considered matching funds. The nature of contribution (cash versus in-kind) and the amount of matching funds will be taken into consideration in the review process. Cash contributions are preferred.

Intergovernmental Review: Applications under this program are subject to Executive Order 12372, “Intergovernmental Review of Federal Programs.”

Evaluation and Selection Procedures: EDA's Denver and Austin regional offices will conduct an initial administrative and technical review of each proposal package to determine its completeness and compliance with the requirements.

EDA's Denver and Austin regional offices will then conduct an internal review of each proposal meeting the requirements of this solicitation. This review will be conducted by a minimum of three EDA staff using the criteria provided in the “Evaluation Criteria” section below. Successful proponents under this competition solicitation will be invited to submit a complete application by the Denver or Austin regional office.

Evaluation Criteria: EDA investments in proposed University Centers will be competitively evaluated on their ability to meet or exceed the following investment policy guidelines (each criterion will be given equivalent weight):

(1) Be market-based and results driven. An investment in an EDA University Center will capitalize on the university's competitive strengths and will bolster regional economic competitiveness, resulting in tangible, quantifiable improvements in regional economic health—such as increased numbers of higher-skill, higher-wage jobs, increased tax revenue or increased private sector investment.

(2) Have strong organizational leadership. An investment will have strong leadership, relevant project management experience, and a significant commitment of human resources talent to ensure a high-performing University Center.

(3) Advance productivity, innovation and entrepreneurship. An investment in a proposed University Center will embrace the principles of entrepreneurship, enhance regional industry clusters, and leverage and link technology innovators (university research) with the private sector to create the conditions for greater productivity, innovation and higher-skill, higher-wage job creation.

(4) Look beyond the immediate economic horizon, anticipate economic changes, and diversify the local and regional economy. A University Center's activities will be part of an overarching, long-term comprehensive economic development strategy that enhances a region's success in achieving a rising standard of living.

In making its recommendations on which institutions should be invited to submit a full application, the EDA review team will strive to avoid the concentration of program funding in a single or very limited number of geographic areas. For that reason, EDA cannot predict a minimum ranking of a successful proposal.

Selection Factors: EDA expects to fund the highest ranking proposals submitted under this competition solicitation. However, EDA may select proposals out of order for several reasons, including: (1) Availability of funding; (2) Geographic balance in distribution of funds; (3) Program priorities and policy factors as set out in the full funding opportunity announcement; or (4) Applicant's performance under previous awards.

The Department of Commerce Pre-Award Notification Requirements for Grants and Cooperative Agreements

The Department of Commerce Pre-Award Notification Requirements for Grants and Cooperative Agreements contained in the Federal Register notice of October 1, 2001 (66 FR 49917), as amended by the Federal Register notice published on October 30, 2002 (67 FR 66109), are applicable to this solicitation.

Paperwork Reduction Act

This document contains collection-of-information requirements subject to the Paperwork Reduction Act (PRA). The use of Form ED-900P has been approved by OMB under the control number 0610-0094. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comments are not required by the Administrative Procedure Act or any other law for notices concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: April 9, 2004.
Mary Pleffner,
Acting Assistant Secretary for Economic Development.

[FR Doc. 04-8547 Filed 4-14-04; 8:45 am]

BILLING CODE 3510-24-P